INTERNATIONAL TRADE COMMISSION

Sunshine Act Meeting

Agency: International Trade Commission.

Time and Date: December 15, 2003, at 11 a.m.

Place: Room 101, 500 E Street, SW., Washington, DC 20436. Telephone: (202) 205-2000.

Status: Open to the public.

Matters to be Considered: 1. Agenda for future meetings: None.

2. Minutes.

3. Ratification List.

4. Inv. No. TA-421-4 (Remedy) (Certain Ductile Iron Waterworks Fittings From China)—briefing and vote. (The Commission is currently scheduled to transmit its recommendations on remedy to the President and the United States Trade Representative on or before December 24, 2003.)

5. Outstanding action jackets: None.

In accordance with Commission policy, subject matter listed above, not disposed of at the scheduled meeting, may be carried over to the agenda of the following meeting.

By order of the Commission:
Issued: December 8, 2003.
Marilyn R. Abbott,
Secretary to the Commission.

[FR Doc. 03-30684 Filed 12-8-03; 10:02 am]

BILLING CODE 7020-02-P